DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date.

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Action

On September 16, 2021, OFAC determined that the property and interests in property subject to U.S. jurisdiction of the following persons are blocked under the relevant sanctions authority listed below.

Individuals

1. ANTUNEZ MUSSO, Washington (a.k.a. “PAPO”), Colombia; DOB 20 Aug 1987; POB Salto, Uruguay; citizen Colombia; Gender Male; Cedula No. 1015413405 (Colombia); Passport AU199512 (Colombia) (individual) [SDNTK]. Designated pursuant to section 805(b)(2) of the Foreign Narcotics Kingpin Designation Act (Kingpin Act), 21 U.S.C. 1904(b)(2), for materially assisting in, or providing financial or technological support for or to, or providing goods or services in support of, Zulma Maria MUSSO TORRES [SDNTK].

2. BERMUDEZ MEJIA, Luis Antonio (a.k.a. “TATA”; a.k.a. “TONO” (Latin: “TOÑO”)), Colombia; DOB 11 Apr 1969; POB Barrancas, La Guajira, Colombia; citizen Colombia; Gender Male; Cedula No. 84006210 (Colombia); Passport AM019495 (Colombia) (individual) [SDNTK]. Designated pursuant to section 805(b)(2) of the Foreign Narcotics Kingpin Designation Act (Kingpin Act), 21 U.S.C. 1904(b)(2), for materially assisting in, or providing financial or technological support for or to, or providing goods or services in support of, Zulma Maria MUSSO TORRES [SDNTK].

3. MUSSO TORRES, Zulma Maria (a.k.a. MUSO, Sulma; a.k.a. “LA PATRONA”; a.k.a. “LA SENORA” (Latin: “LA SEÑORA”)), Colombia; DOB 27 May 1963; POB Santa Marta, Colombia; citizen Colombia; Gender Female; Cedula No. 36141965 (Colombia); Passport AP517448 (Colombia); alt. Passport AB2574362 (Colombia)) (individual) [SDNTK]. Identified as a significant foreign narcotics trafficker pursuant to section 805(b)(1) of the Foreign Narcotics Kingpin Designation Act (Kingpin Act), 21 U.S.C. 1904(b)(1).

4. REALES BRITTO, Juan Carlos (a.k.a. “JUANKI”; a.k.a. “JUANQUI”), Colombia; DOB 09 Dec 1987; POB Santa Marta, Colombia; citizen Colombia; Gender Male; Cedula No. 1082884409 (Colombia); Passport AS340363 (Colombia) (individual) [SDNTK]. Designated pursuant to section 805(b)(2) of the Foreign Narcotics Kingpin Designation Act (Kingpin Act), 21 U.S.C. 1904(b)(2), for materially assisting in, or providing financial or technological support for or to, or providing goods or services in support of, Zulma Maria MUSSO TORRES [SDNTK].

Entities

1. EXCLUSIVE IMPORT EXPORT S.A.S., Calle 23c 4-27 LC 1, Gaira Paraiso, Santa Marta, Colombia; NIT #900543259-5 (Colombia) [SDNTK]. Designated pursuant to section 805(b)(3) of the Kingpin Act, 21 U.S.C. 1904(b)(3), for being owned, controlled, or directed by, or acting for or on behalf of, Zulma Maria MUSSO TORRES [SDNTK].

2. POLIGONO SANTA MARTA S.A.S., Calle 23c 4-27 LC 1, Gaira Paraiso, Santa Marta, Colombia; NIT #901297752-3 (Colombia) [SDNTK]. Designated pursuant to section 805(b)(3) of the Kingpin Act, 21 U.S.C. 1904(b)(3), for being owned, controlled, or directed by, or acting for or on behalf of, Zulma Maria MUSSO TORRES [SDNTK].

Dated: September 16, 2021.
Bradley T. Smith,
Acting Director, Office of Foreign Assets Control, U.S. Department of the Treasury.

[FR Doc. 2021-20551 Filed 9-22-21; 8:45 am]

BILLING CODE 4810-AL-P